DEPARTMENT OF ENERGY

Federal Energy Regulatory Commission

[Docket No. RP01-382-007]

Northern Natural Gas Company; Notice of Compliance Filing

November 27, 2001.

Take notice that on November 19, 2001, Northern Natural Gas Company (Northern), tendered for filing changes in its FERC Gas Tariff, Fifth Revised Volume No. 1, the following tariff sheet proposed to be effective November 1, 2001.

Substitute Eighth Revised Sheet No. 263

Northern states that the reason for this filing is to comply with the Commission's Order dated November 15, 2001 in Docket RP01-382-006. Pursuant to the Order, Northern has removed the reference to the customer buyout surcharge that pertains to future winter heating seasons from the above noted tariff sheet.

Northern further states that copies of the filing have been mailed to each of its customers and interested State Commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-29860 Filed 11-30-01; 8:45 am]

BILLING CODE 6717-01-P